DEPARTMENT OF HOUSING AND URBAN DEVELOPMENT

[Docket No. FR-5044-N-20]

Notice of Proposed Information Collection for Public Comment; Civil Rights Front End and Limited Monitoring Review

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: January 8, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Civil Rights Front End and Limited Monitoring Review.

OMB Control Number: 2577-new.

Description of the need for the information and proposed use:

The information collected during the onsite comprehensive reviews of Public Housing Agencies (PHAs) will be used by HUD to evaluate the PHAs' compliance with civil rights and fair housing laws and regulations (Regulatory Authorities: 24 CFR 1.6(b); 24 CFR 8.55; 24 CFR 125).

Agency form number, if applicable: None.

Members of affected public: Public Housing Agencies

Estimation of the total number of hours needed to prepare the information collection including number of respondents: The estimated total number of burden hours needed to prepare the information collection is 40; the number of respondents is 20; the frequency of response is annually; the estimated time to gather and prepared the necessary document is 2 hours per submission.

Status of the proposed information collection: New Collection.

Authority: Section 3506 of the Paperwork Reduction Act of 1995, 44 U.S.C. Chapter 35, as amended.

Dated: November 3, 2006.
Bessy Kong,
Director, Office of Policy, Program and Legislative Initiatives.

[FR Doc. E6-18888 Filed 11-8-06; 8:45 am]

BILLING CODE 4210-67-P